DEPARTMENT OF TRANSPORTATION

Federal Aviation Administration

Notice of Intent To Rule on Application To Impose and Use Revenue From a Passenger Facility Charge (PFC) at Nashville International Airport, Nashville, Tennessee

AGENCY: Federal Aviation Administration (FAA), DOT.

ACTION: Notice of intent to rule on application.

SUMMARY: The FAA proposes to rule and invites public comment on the application to impose and use revenue from a PFC at Nashville International Airport under the provisions of the Aviation Safety and Capacity Expansion Act of 1990 (Title IX of the Omnibus Budget Reconciliation Act of 1990) (Pub. L. 101-508) and part 158 of the Federal Aviation Regulations (14 CFR part 158).

DATES: Comments must be received on or before October 29, 2001.

ADDRESSES: Comments on this application may be mailed or delivered in triplicate to the FAA at the following address:

Memphis Airports District Office, 3385 Airways Boulevard, Suite 302, Memphis, Tennessee 38116-3841.

In addition, one copy of any comments submitted to the FAA must be mailed or delivered to Mr. Paul Regalado, President of the Metropolitan Nashville Airport Authority at the following address:

One Terminal Drive, Suite 501, Nashville, Tennessee, 37214.

Air carriers and foreign air carriers may submit copies of written comments previously provided to the Metropolitan Nashville Airport Authority under § 158.23 of part 158.

FOR FURTHER INFORMATION CONTACT: Cynthia K. Wills, Program Manager, Memphis Airports District Office, 3385 Airways Boulevard, Suite 302, Memphis, Tennessee 38116-3841, (901) 544-3495, extension 16. The application may be reviewed in person at this same location.

SUPPLEMENTARY INFORMATION: The FAA proposes to rule and invites public comment on the application to impose and use revenue from a PFC at Nashville International Airport under the provisions of the Aviation Safety and Capacity Expansion Act of 1990 (Title IX of the Omnibus Budget Reconciliation Act of 1990) (Pub. L. 101-508) and part 158 of the Federal Aviation Regulations (14 CFR part 158).

On September 20, 2001, the FAA determined that the application to impose and use revenue from a PFC submitted by Metropolitan Nashville Airport Authority was substantially complete within the requirements of section 158.25 of part 158. The FAA will approve or disapprove the application, in whole or in part, no later than January 4, 2002.

The following is a brief overview of the application.

PFC Application No.: 01-09-C-00-BNA.

Level of the proposed PFC: $3.00.

Proposed charge effective date: September 1, 2002.

Proposed charge expiration date: August 31, 2004.

Total estimated net PFC revenue: $26,005,000.

Brief description of proposed project(s): Donelson Pike and Terminal Drive Relocation; Inbound Baggage Carousel Security Cages; Elevator on “A” Concourse; Airfield Pavement Rehabilitation; Airfield Hold Bar Modifications; PAPI Lights on RW's 2L & 31; ARFF Vehicle; Cargo Area Infrastructure and Utility Improvements; Live Scan Fingerprint Equipment.

Class of classes of air carriers which the public agency has requested not be required to collect PFCs: Part 135 Air Taxi's.

Any person may inspect the application in person at the FAA office listed above under FOR FURTHER INFORMATION CONTACT.

In addition, any person may, upon request, inspect the application, notice and other documents germane to the application in person at the Metropolitan Nashville Airport Authority.

Issued in Memphis, Tennessee on September 20, 2001.
LaVerne F. Reid,
Manager, Memphis Airports District Office, Southern Region.

[FR Doc. 01-24220 Filed 9-26-01; 8:45 am]

BILLING CODE 4910-13-M